INTERNATIONAL TRADE COMMISSION

[USITC SE-20-012]

Sunshine Act Meetings; Cancellation of Sunshine Act Meeting

Agency Holding the Meeting: United States International Trade Commission.

ORIGINAL TIME AND DATE: March 19, 2020 at 9:30 a.m.

CONTACT PERSON FOR MORE INFORMATION: William Bishop, Supervisory Hearings and Information Officer, 202-205-2595.

ACTION: In accordance with 19 CFR 201.37(a), the Commission has unanimously determined to cancel the meeting of March 19, 2020 at 9:30 a.m. which was scheduled under the Government in the Sunshine Act, 5 U.S.C. 552(b). Earlier notification of this cancellation was not possible.

By order of the Commission.
Issued: March 12, 2020.
Lisa Barton,
Secretary to the Commission.

[FR Doc. 2020-05572 Filed 3-13-20; 11:15 am]

BILLING CODE 7020-02-P